DEPARTMENT OF AGRICULTURE

Agricultural Marketing Service

[Docket # AMS-FV-2006-0205; FV-06-317]

United States Standards for Grades of Cantaloups

AGENCY: Agricultural Marketing Service, USDA.

ACTION: Notice.

SUMMARY: The Agricultural Marketing Service (AMS) is soliciting comments on its proposal to revise the voluntary United States Standards for Grades of Cantaloups. AMS is proposing revisions to the “Application of Tolerances” section in the cantaloup standards. Additionally, AMS is removing the “Unclassified” category from the standards. The proposed revisions will update the cantaloup grade standards and better reflect current marketing practices.

DATES: Comments must be received by September 24, 2007.

ADDRESSES: Interested persons are invited to submit written comments on the Internet at http://www.regulations.gov or to the Standardization Section, Fresh Products Branch, Fruit and Vegetable Programs, Agricultural Marketing Service, U.S. Department of Agriculture, 1400 Independence Ave. SW., Room 1661 South Building, Stop 0240, Washington, DC 20250-0240; Fax (202) 720-8871. Comments should make reference to the dates and page number of this issue of the Federal Register and will be made available for public inspection in the above office during regular business hours.

FOR FURTHER INFORMATION CONTACT: Vincent J. Fusaro, Standardization Section, Fresh Products Branch, (202) 720-2185. The United States Standards for Grades of Cantaloups are available by accessing the Fresh Products Branch Web site at: http://www.ams.usda.gov/standards/stanfrfv.htm.

SUPPLEMENTARY INFORMATION: Section 203(c) of the Agricultural Marketing Act of 1946 (7 U.S.C. 1621-1627), as amended, directs and authorizes the Secretary of Agriculture “To develop and improve standards of quality, condition, quantity, grade and packaging and recommend and demonstrate such standards in order to encourage uniformity and consistency in commercial practices.” AMS is committed to carrying out this authority in a manner that facilitates the marketing of agricultural commodities. AMS makes copies of official standards available upon request. The United States Standards for Grades of Fruits and Vegetables not connected with Federal Marketing Orders or U.S. Import Requirements no longer appear in the Code of Federal Regulations, but are maintained by USDA, AMS, Fruit and Vegetable Programs.

AMS is proposing to revise the United States Standards for Grades of Cantaloups using the procedures that appear in Part 36, Title 7 of the Code of Federal Regulations (7 CFR part 36). These standards were last revised in 1968.

Background

On December 28, 2006, AMS published a notice in the Federal Register (71 FR 78128-78129) soliciting comments for possible revisions for the United States Standards for Grades of Cantaloups. In response to the notice, AMS received one comment on the proposed revisions. The comment received was from an agricultural trade association and is available by accessing http://www.regulations.gov/fdmspublic/component/main or the AMS, Fresh Products Branch Web site at: http://www.ams.usda.gov/fv/fpbdocketlist.htm. Based on the comment received and information gathered, AMS developed revised grade standards for cantaloups.

The agricultural trade association favored changing the wording in section 51.480, “Application of Tolerances” of the United States Standards for Grades of Cantaloups. Accordingly, AMS will make revisions to section 51.480 so that the tolerances may be applied to: Either samples of the entire contents of melons in cartons or to samples consisting of at least twenty five melons for cantaloups packed in bulk bins or other packaging. Specifically within the section, “The contents of individual packages* * *” will be modified to “Samples* * *” and “(a) A package may contain* * *” will be modified to “(a) Samples may contain* * *”. These revisions will make the Application of Tolerances applicable to cantaloups shipped in larger containers, such as bulk bins, which may contain several hundred melons, as well as those shipped in smaller containers.

AMS will also eliminate the unclassified category. This category is being removed from all standards when they are revised. This category is not a grade and only serves to show that no grade has been applied to the lot. It is no longer considered necessary.

AMS is also seeking comments regarding how this revision will affect the marketing of cantaloups. Additionally, AMS is interested in learning the costs and/or benefits to the industry by revising the United States Standards for Grades of Cantaloups.

The official grades of cantaloups covered by these standards are determined by the procedures set forth in the Regulations Governing Inspection, Certification, and Standards of Fresh Fruits, Vegetables and Other Products (7 CFR 51.1 to 51.62).

This notice provides for a 60-day comment period for interested parties to comment on the proposed revisions to the standards.

Authority: 7 U.S.C. 1621-1627.

Dated: July 19, 2007.
Lloyd C. Day,
Administrator, Agricultural Marketing Service.

[FR Doc. E7-14337 Filed 7-24-07; 8:45 am]

BILLING CODE 3410-02-P